DEPARTMENT OF TRANSPORTATION

National Highway Traffic Safety Administration

[U.S. DOT Docket No. NHTSA-2016-0011]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

DATES: Comments must be received on or before May 9, 2016.

ADDRESSES: You may submit comments identified by DOT Docket ID Number NHTSA-2016-0011 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Alan Block, Office of Behavioral Safety Research (NPD-310), National Highway Traffic Safety Administration, 1200 New Jersey Avenue SE., W46-499, Washington, DC 20590. Mr. Block's phone number is 202-366-6401 and his email address is Alan.Block@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Title: Awareness & Availability of Child Passenger Safety Information Resources (AACPSIR).

Type of Request: New information collection requirement.

OMB Clearance Number: None.

Form Number: NHTSA Forms 1333 and 1334.

Requested Expiration Date of Approval: 3 years from date of approval.

Summary of the Collection of Information: The National Highway Traffic Safety Administration (NHTSA) proposes to conduct a national web-based survey to estimate parent and caregiver general knowledge of child passenger safety (CPS) information resources, awareness and use of child restraint system (CRS) inspection stations, and reported barriers to CRS inspection station use. The survey will also examine the relationship between parent and caregiver confidence in installing CRSs, risk perception, and intent to visit an inspection station. NHTSA will contact a maximum of 32,000 households to obtain 1,400 completed interviews. NHTSA will use a 5 minute screening instrument to determine survey eligibility. Households will be eligible if they have at least one adult who regularly travels with a child between the ages of 0 and 9 in their personal vehicles. Households with an eligible participant will be asked by NHTSA to complete a 15 minute interview. Spanish translation services will be provided.

Description of the Need for the Information and Proposed Use of the Information—NHTSA was established by the Highway Safety Act of 1970 (23 U.S.C. 101) to carry out a Congressional mandate to reduce the mounting number of deaths, injuries, and economic losses resulting from motor vehicle crashes on the Nation's highways. As part of this statutory mandate, NHTSA is authorized to conduct research as a foundation for the development of motor vehicle standards and traffic safety programs.

Data from NHTSA's Fatality Analysis Reporting System show that an average of 3 children under the age of 14 died each day in traffic crashes in 2013 and an estimated 470 children were injured. Child restraint systems (CRSs) are effective at reducing the risk of injury during motor vehicle crashes. Research has shown a 28% reduction in risk of death for children (aged 2-6 years) compared to seat belts when CRSs are installed correctly. Studies have estimated rates of improper installation of CRSs to be in the range of 70-80 percent.

Many information resources are available to aid parents and caregivers with proper child restraint system selection and installation, including hands-on instruction. In 1998, NHTSA implemented a program for training and certifying child passenger safety technicians (CPSTs). Presently, Safe Kids Worldwide hosts Child Car Seat Inspection Stations nationwide which provide parents and caregivers an opportunity to receive one-on-one instruction regarding proper use and installation of child restraints from a certified CPST. Research has shown that hands-on instruction on CRS installation is effective in reducing misuse of seats. Unfortunately, this resource seems to be underutilized. Only about one out of ten drivers interviewed for the National Child Restraint Use Special Study (NCRUSS) reported having their CRS inspected at an inspection station.

At present, it is unclear what deters and what encourages use of Child Car Seat Inspection Stations and CPSTs. One potential barrier is parent/caregiver overconfidence leading to overconfident parents and caregivers not recognizing the need to visit an inspection station or CPST. One example of this is the NCRUSS where misuse was observed in 46% of cases, but where most drivers reported being confident or very confident that they chose the correct car seat/booster seat and installed the car seat/booster seat correctly. Potential barriers to use don't stop with overconfidence; they could also include logistical and practical matters, such as awareness and accessibility.

Identifying and better understanding the barriers that result in underutilization of inspection stations will allow NHTSA and other child passenger safety stakeholders to develop effective programs that promote and encourage use of this important life-saving resource.

Description of the Likely Respondents (Including Estimated Number, and Proposed Frequency of Response to the Collection of Information)—Under this proposed data collection, the potential respondent universe would be people aged 18 years or older who regularly transport children between the ages of 0 and 9 in their personal vehicles. NHTSA will send survey requests to a sufficient number of households to obtain 1,400 completed interviews. The requests will be sent via postal mail.

Respondents within a household would not be randomly selected. Rather, the screener would ask the member of the household who most frequently drives children to complete the survey. NHTSA considers this to be the person in the household most likely to seek CPS information and pursue CPS training at an inspection station, and therefore the most appropriate respondent for this survey. Each respondent would complete a single survey; there will be no request for additional follow-up information or response.

Throughout the project, the privacy of all participants would be protected. Access to the online instrument would be controlled using an alphanumeric PIN, with access restricted to using encrypted connection via Secure Sockets Layer (SSL) certificates. To protect the online instruments from break-in attempts, the public site would feature automatic access lockdown after too many unsuccessful login attempts are performed within a short amount of time. Similarly, once an interview is completed, the survey would no longer be accessible to respondents using their PINs. These two measures protect respondent responses from being compromised.

Personally-identifiable information such as the postal address of sample members would be kept separate from the data collected, and would be stored in restricted folders on secure password protected servers that are only accessible to study staff who have need to access such information. In addition, all data collected from respondents will be reported in aggregate, and identifying information would not be used in any reports resulting from this data collection effort. Rigorous de-identification procedures would be used during summary and feedback stages to prevent respondents from being identified through reconstructive means.

Estimate of the Total Annual Reporting and Record Keeping Burden Resulting From the Collection of Information—NHTSA estimates that the total respondent burden for this data collection would be 942 hours. A sufficient number of invitation letters would be distributed for 7,000 potential respondents to log onto the Web site and take a 5 minute eligibility screener (7,000 * 5 minutes = 35,000 minutes/60 = 583 hours). Of those who take the eligibility screener, NHTSA estimates that 1,400 would complete the full survey which would average 15 minutes in length (1,400 * 15 minutes = 21,000 minutes/60 = 350 hours). The data collection would also include 9 hours of burden for 9 people to complete usability testing at 1 hour each to aid survey instrument development (9 * 1 hour = 9 hours). The participants would not incur any reporting cost from the information collection. The participants would also not incur any record keeping burden or record keeping cost from the information collection.

Authority: 44 U.S.C. Section 3506(c)(2)(A).

Issued in Washington, DC on March 3, 2016.
Jeff Michael,
Associate Administrator, Research and Program Development.

[FR Doc. 2016-05091 Filed 3-7-16; 8:45 am]

BILLING CODE 4910-59-P